TENNESSEE VALLEY AUTHORITY

Meeting of the Regional Resource Stewardship Council

AGENCY: Tennessee Valley Authority (TVA).

ACTION: Notice of meeting.

SUMMARY: The TVA Regional Resource Stewardship Council (RRSC) will hold a meeting on Monday and Tuesday, November 5-6, 2018, to consider various matters regarding River Operations programs.

The RRSC was established to advise TVA on its natural resources and stewardship activities and the priority to be placed among competing objectives and values. Notice of this meeting is given under the Federal Advisory Committee Act (FACA).

DATES: The meeting will be held November 5-6, 2018. Monday's meeting will run from 10 a.m. to 12 p.m., EST, while Tuesday's meeting will run from 8:30 a.m. to 12 p.m., EST.

ADDRESSES: The meeting will be held at the Tennessee Valley Authority Auditorium, 400 W. Summit Hill Drive, Knoxville, Tennessee 37902. An individual requiring special accommodation for a disability should let the contact below know at least a week in advance.

FOR FURTHER INFORMATION CONTACT: Barbie Perdue, 865-632-6113, baperdue@tva.gov.

SUPPLEMENTARY INFORMATION: The meeting agenda includes the following items:

1. Introductions

2. Programmatic Agreements update

3. River Management presentation

4. Cultural Resource Management

5. Natural Resources program updates

6. Public Comments

7. Council Discussion and Advice

The meeting is open to the public. Comments from the public will be accepted Tuesday, November 6 starting at 9:30 a.m., EST, for 60 minutes. Registration to speak is from 8 a.m. to 9 a.m., EST, at the door. TVA will set time limits for providing oral comments, once registered. Handout materials should be limited to one printed page. Written comments may be sent to the RRSC at any time through links on TVA's website at www.tva.com/rrsc or by mailing to the Regional Resource Stewardship Council, Tennessee Valley Authority, 400 West Summit Hill Drive, WT 9D, Knoxville, Tennessee 37902.

Dated: October 17, 2018.
Joseph J. Hoagland,
Vice President, Enterprise Relations and Innovation, Tennessee Valley Authority.

[FR Doc. 2018-23105 Filed 10-22-18; 8:45 am]

BILLING CODE 8120-08-P